DEPARTMENT OF THE TREASURY

Alcohol and Tobacco Tax and Trade Bureau

27 CFR Part 9

[Docket No. TTB-2020-0011; Notice No.196]

RIN 1513-AC63

Proposed Establishment of the Goose Gap Viticultural Area

AGENCY: Alcohol and Tobacco Tax and Trade Bureau, Treasury.

ACTION: Notice of proposed rulemaking.

SUMMARY: The Alcohol and Tobacco Tax and Trade Bureau (TTB) proposes to establish the approximately 8,129-acre “Goose Gap” viticultural area in Benton County, Washington. The proposed viticultural area lies entirely within the established Yakima Valley and Columbia Valley viticultural areas. TTB designates viticultural areas to allow vintners to better describe the origin of their wines and to allow consumers to better identify wines they may purchase. TTB invites comments on this proposed addition to its regulations.

DATES: TTB must receive comments by December 22, 2020.

ADDRESSES: You may electronically submit comments to TTB on this proposal, and view copies of this document, its supporting materials, and any comments TTB receives on it within Docket No. TTB-2020-0011 as posted on Regulations.gov (https://www.regulations.gov), the Federal e-rulemaking portal. Please see the “Public Participation” section of this document below for full details on how to comment on this proposal via Regulations.gov or U.S. mail, and for full details on how to view or obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

Goose Gap Petition

TTB received a petition from Alan Busacca, on behalf of the Goose Gap Wine Grower's Association, proposing the establishment of the “Goose Gap” AVA. The proposed Goose Gap AVA is located in Benton County, Washington, and lies entirely within the established Yakima Valley AVA (27 CFR 9.69) and Columbia Valley AVA (27 CFR 9.74). The proposed Goose Gap AVA contains approximately 8,129 acres and has 1 winery and 2 commercially-producing vineyards covering a total of more than 1,800 acres. The petition states that, in 2017, the two vineyards harvested more than 7,000 tons of grapes, and the winery produced about 50,000 cases of wine from those grapes.

According to the petition, the distinguishing features of the proposed Goose Gap AVA include its geology and soils. The petition also included information on the general climate of the region near the proposed AVA. However, the petition did not include any actual climate data from within the proposed Goose Gap AVA and instead provided climate data from the nearby established Red Mountain AVA (27 CFR 9.167), which the petition asserts has a similar climate. Because the petition did not include evidence from within the proposed AVA to support its climate claims, TTB is unable to determine that climate is a distinguishing feature of the proposed AVA. Therefore, this proposed rule does not include a discussion of the climate of the proposed AVA.¹ TTB invites public comments that include climate data from within the proposed AVA and the surrounding regions. The Bureau may determine climate to be a distinguishing feature of this proposed AVA if sufficient additional information is received. Unless otherwise noted, all information and data pertaining to the proposed AVA contained in this document are from the petition for the proposed Goose Gap AVA and its supporting exhibits.

¹ The climate data is included in Docket TTB-2020-0011 at https://www.regulations.gov.

Name Evidence

The proposed Goose Gap AVA takes its name from the geological feature known as “Goose Gap,” which is located within the proposed AVA. Goose Gap is described as a slightly rolling “saddle” or “gap” of land situated between Goose Hill, which is also within the proposed AVA, and Candy Mountain and Badger Mountain, which are located to the east and southeast of the proposed AVA, respectively. The gap is labeled “Goose Gap” on U.S.G.S. quadrangle maps dating back to 1965, including the 1965 Badger Mountain quadrangle map and the 1978 Richland quadrangle map, both of which were included as exhibits to the petition. The gap is also labeled “Goose Gap” on the 2017 Badger Mountain quadrangle map used to create the boundary of the proposed AVA.

The petition states that the name “Goose Gap” has been used to describe the region of the proposed AVA in newspaper articles and other historical sources since at least 1904, when a reference appeared in the journal Forest and Stream. The 1904 article describes a goose hunting trip at “Goose Gap, through which the geese fly in reaching the Horse Heaven feeding grounds after they leave the sand bars of the Columbia River.” ² A 1913 article in the Kennewick Courier newspaper mentions several local residents who participated “in a goose hunt at `Goose Gap' last Sunday.” ³ A 1959 publication on the early history of Benton City, Washington, which is located near the proposed AVA, notes that “[a]round the lower valley at Goose Gap up the canyon * * * the wild geese come to feed in great flocks at certain seasons of the year.” ⁴

² Portus Baxter, Washington Geese, Forest and Stream, Vol. 63, page 26 (1904). See Exhibit 1.10 of the petition.

³ Richland items, Kennewick Courier, Nov. 18, 1913 at page 4. See Exhibit 1.12 of the petition.

⁴ History Committee of the Community Development Program of Benton City, 1959, History of Benton City Washington 1853-1959, pages 6, 8-10, 19 (Benton City, Washington 1959). See Exhibit 1.15 of the petition.

The petition also included more recent examples to demonstrate that the region of the proposed AVA is currently referred to as “Goose Gap.” A road running through the proposed AVA is named Goose Gap Road. A local pawpaw fruit orchard is named Goose Gap Pawpaws. A 1972 draft environmental statement on the proposal to build Interstate 82, which runs through the proposed AVA, notes that a portion of the road will “follow a passage * * * to Goose Gap at the northwest end of Badger Mountain.” ⁵ A 2016 newspaper article about wine grape growing in Washington states, “The Monson family started out in cattle and fruit before developing Goose Ridge Vineyards, and has turned a unique property in Goose Gap into 2,200 acres of wine grapes.” ⁶ A review of Washington wines describes a 2016 rosé from Goose Ridge Vineyards, which is located within the proposed AVA, and mentions that the wine was made by “Goose Gap winemaker Andrew Wilson.” ⁷

⁵ Oregon State Highway Division and Washington State Department of Highways. Draft Environmental Statement—Interstate 82/182 Prosser, Washington to Interstate 80N in Oregon, page 1-8 (1972). See Exhibit 1.16 of the petition.

⁶ Kevin Cole, Wine grapes continue to thrive, Tri-City Herald, Oct. 20, 2016, at pages 8-9. See Exhibit 1.7 of the petition.

⁷ Andy Perdue & Eric Degerman, Northwest wine: Spring into action on the patio with Northwest rosé, Tri-City Herald, May 20, 2017, www.tri-cityherald.com/living/food-drink/wine/article149577139.html. (Last accessed December 12, 2017). See Exhibit 1.8 of the petition.

Several other references to “Goose Gap” are found in a 2015 plan for a project to develop water rights and drill deep irrigation wells for row crops, orchards, and vineyards on lands owned by the Washington State Department of Natural Resources (DNR) in the region of the proposed AVA. First, the development plan refers to the project as the “DNR Red Mountain Goose Gap Project.” ⁸ The plan states that “DNR's Red Mountain Goose Gap Complex and associated leases represent one of DNR's larger agriculture projects with extensive acres of vineyard and orchard production and related infrastructure.” ⁹ Finally, a map of the DNR land parcels affected by the project notes, “Boundary between the Goose Gap and Red Mt. Parcels are separate [sic] by I-82.” ¹⁰ TTB notes that Interstate 82 runs just inside the northern boundary of the proposed Goose Gap AVA and separates the proposed AVA from the established Red Mountain AVA.

⁸ Washington Department of Natural Resources. Attachment 1—Determined Future Development Plan and Supporting Documentation—DNR Red Mountain Goose Gap Project. (2015). See Exhibit 1.4 of the petition.

⁹ Ibid at page 1.

¹⁰ Washington Department of Natural Resources. Attachment 1-1—Red Mountain/Goose Gap Complex History, page 6 (2015). See Exhibit 1.5 of the petition.

Boundary Evidence

The proposed Goose Gap AVA encompasses Goose Gap and Goose Hill. The majority of the northern boundary is concurrent with the southern boundary of the established Red Mountain AVA and separates Goose Gap and Goose Hill from Red Mountain, which is a separate geographic feature. The northeastern boundary follows a series of highways and roads and is concurrent with the boundary of the established Candy Mountain AVA (27 CFR 9.272). This boundary separates the proposed Goose Gap AVA from Candy Mountain, which is also a separate geographic feature. The eastern boundary follows a series of roads and drainage lines to separate the proposed AVA from Badger Mountain. The southern and western boundaries follow a railroad track and the 600-foot elevation contour to separate the proposed AVA from Badger Coulee.

Distinguishing Features

The distinguishing features of the proposed Goose Gap AVA are its geology and soils.

Geology

The proposed Goose Gap AVA is comprised of two geographic features with similar viticultural conditions: Goose Gap and the adjoining Goose Hill. According to the petition, Goose Gap and Goose Hill together form part of a single folded and faulted block of the underlying Columbia River Basalt. Goose Gap is formed from a syncline, a down-folded arch in the bedrock that creates a saddle-like shape, whereas Goose Hill is formed from an anticline, an arch-like structure of basalt that was bent upwards to form a ridge and slopes.

The proposed AVA is part of a series of folded hills and valleys collectively known as the Yakima Fold Belt, which runs from the Beezley Hills in the north to the Horse Heaven Hills in the south. According to the petition, all of the ridges and hills in the region surrounding the proposed Goose Gap AVA have a northwest-southeast orientation, including Rattlesnake Ridge, Red Mountain, and Candy Mountain. However, Goose Hill has an east-west orientation, as does the adjoining Goose Gap. Furthermore, the south and southwest slopes within the proposed Goose Gap AVA are significantly steeper than the north and northeast slopes. As a result, vineyards in the proposed AVA are planted on the north and northeast slopes. According to the petition, the other hills and slopes in the Yakima Fold Belt, including the neighboring Red Mountain and Candy Mountain, have plantable south and southwest slopes, while the north and northeast slopes are too steep for vineyards.

The petition states that the unique slope aspect of the proposed Goose Gap AVA has an effect on viticulture. Vineyards on north- and northeast-facing slopes, such as those in the proposed AVA, receive less solar radiation than vineyards on south- and southwest-facing slopes. The petition further states that data from three vineyard locations within the proposed AVA show that the vineyards receive an average of 980,500 watt-hours per square meter per year. By contrast, data from three vineyard locations in the neighboring Red Mountain AVA, which are planted on south- and southwest-facing slopes, show that the vineyards receive an average of 1,025,867 watt-hours per square meter per year. The petition states that while a difference in solar radiation of 5 percent may seem small, it can affect how quickly grapes ripen. For example, Cabernet Sauvignon grapes grown in the proposed AVA typically ripen a week to nine days later than the same varietal of grapes grown in the Red Mountain AVA.

Soils

The proposed Goose Gap AVA has five main soil series: Warden, Shano, Kiona, Hezel, and Prosser. Together, these soil series comprise almost 95 percent of the soil within the proposed AVA. The most abundant soil is the Warden series, which makes up 65 percent of the proposed AVA. These soils consist of wind-blown loess over layered or stratified silts and fine sands from the ancient Missoula Floods. Warden soils have rooting depths of six feet or more with no hardpans or other root-restrictive layers, and as such, they are prized soils for vineyards. Kiona soils comprise about 9 percent of the proposed AVA and are formed in loess and rubble from fractured basalt. According to the petition, these soils are typically found on the south-facing slopes of the proposed AVA, which are in most cases too steep for vineyards.

Also within the proposed Goose Gap AVA are Shano and Hezel soils, which each make up about 7 percent of the soils of the proposed AVA. Shano soils are formed in deep wind-blown loess and are highly desirable for vineyards, in part because their low levels of organic matter prevent overly vigorous vine and leaf growth. Shano soils are also desirable for vineyards because their low natural soil moisture allows growers to control vine development via the timing and amount of water applied by drip irrigation during the growing season. Hezel soils are made of wind-blown sand over stratified Missoula Floods silts and sands. Finally, Prosser soils comprise about 5 percent of the soils in the proposed AVA. These soils formed in loess mixed with flood sediments that total only about 30 inches of soil thickness over basaltic bedrock. However, the underlying basalt is fractured and not plugged by a hardpan, so the soils remain well drained and are desirable for vineyards.

The petition states that the soils of the surrounding regions differ from those of the proposed Goose Gap AVA in both abundance and composition. The petition compared the soils of the prepared AVA to those of the Red Mountain AVA, to the northwest of the proposed AVA, the Yakima Valley AVA, which encompasses the proposed AVA, and the Horse Heaven Hills AVA (27 CFR 9.188), which is adjacent to the Yakima Valley AVA and to the southwest of the proposed AVA. Warden soils dominate the proposed AVA, yet they comprise only 46 percent of the soils in the Red Mountain AVA and approximately 25 percent of the soils in both the entire Yakima Valley AVA and the Horse Heaven Hills AVA. Scooteney soils make up approximately 11 percent of the soils of the Red Mountain AVA yet are completely absent in the proposed Goose Gap AVA, with which the Red Mountain AVA shares a boundary. Ritzville soils constitute almost 30 percent of the soils of the Horse Heaven Hills AVA, but they too are absent from the proposed AVA.

Summary of Distinguishing Features

In summary, the geology and soils of the proposed Goose Gap AVA distinguish it from the surrounding regions. Although the proposed Goose Gap AVA is underlain with the same Columbia River Basalt as most of eastern Washington, the basalt in the proposed AVA was folded in an entirely unique manner. As a result, Goose Hill and Goose Gap, the two adjoining features that comprise the proposed AVA, both have an east-west alignment and north-northeast facing plantable slopes. By contrast, all of the other slopes and hills that comprise the Yakima Fold Belt have a northwest-southeast alignment and south-southwest facing plantable slopes. Additionally, Warden soils comprise approximately 65 percent of the soils in the proposed AVA but make up significantly less of the soils in the Yakima Valley AVA, which encompasses the proposed AVA. Warden soils also comprise significantly less of the soils in the Red Mountain AVA to the immediate northwest of the proposed AVA and the Horse Heaven Hills AVA to the southwest of the proposed AVA. Several soil series common in the surrounding regions, including Scooteney and Ritzville, are completely absent from the proposed Goose Gap AVA.

Comparison of the Proposed Goose Gap AVA to the Existing Yakima Valley AVA

T.D. ATF-128, which published in the Federal Register on April 4, 1983 (48 FR 14374), established the Yakima Valley AVA. T.D. ATF-128 states that topography, climate, and soils distinguish the Yakima Valley AVA from the surrounding regions. The Yakima Valley AVA is bounded on the north and south by basaltic uplifts; on the east by Rattlesnake Mountain, Red Mountain, and Badger Mountain; and on the west by the foothills of the Cascade Mountains. The western portion of the AVA is described as a vast expanse of flat land, while the eastern portion is comprised of gently sloping land. The Yakima Valley AVA contains at least 13 different soil associations, the most common being the Warden-Shano Association and the Scooteney-Starbuck Association.

The proposed Goose Gap AVA is located in the southeastern portion of the Yakima Valley AVA and shares some of the same general features. For instance, both the proposed AVA and the established AVA rest on Columbia River Basalt and have soils that are a combination of glacial-flood and wind-borne soils, including the Warden soil series.

However, the proposed Goose Gap AVA has some characteristics that distinguish it from the Yakima Valley AVA. For example, the proposed Goose Gap AVA is unique among the hills of the Yakima Valley AVA in that it has an east-west alignment and a north-northeast plantable slope aspect. Additionally, although Warden and Shano soils occur in the Yakima Valley AVA, they comprise a larger percentage of the proposed Goose Gap AVA soils. By contrast, many vineyards in the Yakima Valley AVA are planted on the Scooteney-Starbuck soil association, but Scooteney soils are not found within the proposed AVA and Starbuck soils comprise less than 2 percent of the proposed AVA soils.

Comparison of the Proposed Goose Gap AVA to the Existing Columbia Valley AVA

The Columbia Valley AVA was established by T.D. ATF-190, which was published in the Federal Register on November 13, 1984 (49 FR 44897). The Columbia Valley AVA covers approximately over 11 million acres in Washington along the Columbia and Snake Rivers. According to T.D. ATF-190, the AVA is a large, treeless, broadly undulating basin with elevations that are generally below 2,000 feet. In general, the growing season within the Columbia Valley AVA is over 150 days, and growing degree day accumulations are generally over 2,000.

The proposed Goose Gap AVA shares some of the same general characteristics as the Columbia Valley AVA. For example, elevations within the proposed AVA are below 2,000 feet. However, due to its much smaller size, the proposed AVA has more uniform characteristics than the large, multi-county Columbia Valley AVA. The proposed AVA encompasses a single folded and faulted block of Columbia River Basalt, characterized by the Goose Gap syncline and the adjoining Goose Hill anticline. The Columbia Valley AVA, by contrast, consists of multiple ridges, hills, and valleys within a single broad basin.

TTB Determination

TTB concludes that the petition to establish the 8,129-acre Goose Gap AVA merits consideration and public comment, as invited in this notice of proposed rulemaking.

Boundary Description

See the narrative description of the boundary of the petitioned-for AVA in the proposed regulatory text published at the end of this proposed rule.

Maps

The petitioner provided the required maps, and they are listed below in the proposed regulatory text. You may also view the proposed Goose Gap AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Goose Gap,” will be recognized as a name of viticultural significance under § 4.39(i)(3) of the TTB regulations (27 CFR 4.39(i)(3)). The text of the proposed regulation clarifies this point. Consequently, wine bottlers using the name “Goose Gap” in a brand name, including a trademark, or in another label reference as to the origin of the wine, would have to ensure that the product is eligible to use the AVA name as an appellation of origin if this proposed rule is adopted as a final rule.

The approval of the proposed Goose Gap AVA would not affect any existing AVA, and any bottlers using “Yakima Valley” or “Columbia Valley” as an appellation of origin or in a brand name for wines made from grapes grown within the Yakima Valley or Columbia Valley AVAs would not be affected by the establishment of this new AVA. The establishment of the proposed Goose Gap AVA would allow vintners to use “Goose Gap,” “Yakima Valley,” and “Columbia Valley” as appellations of origin for wines made from grapes grown within the proposed Goose Gap AVA if the wines meet the eligibility requirements for the appellation.

Public Participation

Comments Invited

TTB invites comments from interested members of the public on whether it should establish the proposed Goose Gap AVA. TTB is also interested in receiving comments on the sufficiency and accuracy of the name, boundary, soils, geology, and other required information submitted in support of the petition. In addition, given the proposed Goose Gap AVA's location within the existing Yakima Valley and Columbia Valley AVAs, TTB is interested in comments on whether the evidence submitted in the petition regarding the distinguishing features of the proposed AVA sufficiently differentiates it from the existing established AVAs. TTB is also interested in comments on whether the geographic features of the proposed AVA are so distinguishable from the surrounding Yakima Valley and Columbia Valley AVAs that the proposed Goose Gap AVA should no longer be part of either AVA. Please provide any available specific information in support of your comments.

Because of the potential impact of the establishment of the proposed Goose Gap AVA on wine labels that include the term “Goose Gap” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this document by using one of the following methods:

• Federal e-Rulemaking Portal: You may send comments via the online comment form posted with this document within Docket No. TTB-2020-0011 on “Regulations.gov,” the Federal e-rulemaking portal, at https://www.regulations.gov. A direct link to that docket is available under Notice No. 196 on the TTB website at https://www.ttb.gov/wine/notices-of-proposed-rulemaking. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

Please submit your comments by the closing date shown above in this document. Your comments must reference Notice No. 196 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2020-0011 on the Federal e-rulemaking portal, Regulations.gov, at https://www.regulations.gov. A direct link to that docket is available on the TTB website at https://www.ttb.gov/wine/notices-of-proposed-rulemaking under Notice No. 196. You may also reach the relevant docket through the Regulations.gov search page at https://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also obtain copies of this proposed rule, all related petitions, maps and other supporting materials, and any electronic or mailed comments that TTB receives about this proposal at 20 cents per 8.5 x 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.___ to read as follows:

§ 9.___ Goose Gap.

(a) Name. The name of the viticultural area described in this section is “Goose Gap”. For purposes of part 4 of this chapter, “Goose Gap” is a term of viticultural significance.

(b) Approved maps. The 4 United States Geological Survey (USGS) 1:24,000 scale topographic maps used to determine the boundary of the Goose Gap viticultural area are titled:

(1) Benton City, WA, 2017;

(2) Richland, WA, 2017;

(3) Badger Mountain, WA, 2017; and

(4) Webber Canyon, WA, 2017.

(c) Boundary. The Goose Gap viticultural area is located in Benton County, Washington. The boundary of the Goose Gap viticultural area is as described below:

(1) The beginning point is on the Benton City map at the intersection of Sections 10, 11, 15, and 14, T9N/R27E. From the beginning point, proceed southwesterly in a straight line for approximately 250 feet to the 700-foot elevation contour in Section 15, T9N/R27E; then

(2) Proceed southwesterly along the 700-ft elevation contour to its westernmost point in Section 15, T9N/R27E; then

(3) Proceed southwesterly in a straight line to intersection of the 700-foot elevation contour and an unnamed intermittent stream in Section 16, T9N/R27E; then

(4) Proceed southwesterly along the unnamed intermittent stream to its intersection with the 600-foot elevation contour in Section 20, T9N/R27E; then

(5) Proceed south, then southwesterly along the 600-foot elevation contour, crossing onto the Webber Canyon map, for a total of approximately 3 miles to the intersection of the 600-foot elevation contour and the western boundary of Section 27, T9N/R27E; then

(6) Proceed south along the western boundary of Section 27 to its intersection with the railroad tracks; then

(7) Proceed southeasterly along the railroad tracks, crossing onto the Badger Mountain map, and continuing along the railroad tracks for a total of approximately 3 miles to the intersection of the railroad tracks with Dallas Road in Section 36, T9N/R27E; then

(8) Proceed east, then north along Dallas Road for approximately 2 miles to its intersection with Interstate 182 in Section 20, T9N/R28E; then

(9) Proceed west along Interstate 182 and onto the ramp to Interstate 82, and continue northwesterly along Interstate 82, crossing over the southwestern corner of the Richland map and onto the Benton City map, to the intersection of Interstate 82 and an intermittent stream in Section 13, T9N/R27E; then

(10) Proceed northwesterly along the intermittent stream to its intersection with E. Kennedy Road NE in Section 13, T9N/R27E; then

(11) Proceed north in a straight line to the northern boundary of Section 13, T9N/R27E; then

(12) Proceed westerly along the northern boundaries of Sections 13 and 14, returning to the beginning point.

Signed: August 26, 2020.
Mary G. Ryan,
Administrator.
Approved: September 24, 2020.
Timothy E. Skud,
Deputy Assistant Secretary (Tax, Trade, and Tariff Policy).

[FR Doc. 2020-22925 Filed 10-22-20; 8:45 am]

BILLING CODE 4810-31-P